Title 3—

The President

Proclamation 7276 of February 29, 2000

National Colorectal Cancer Awareness Month, 2000

By the President of the United States of America

A Proclamation

Colorectal cancer is the second leading cause of cancer-related deaths in the United States. Estimates show that physicians will diagnose approximately 130,000 new cases of colorectal cancer this year, and, of those persons diagnosed, more than 56,000 will die from the disease. Colorectal cancer takes such a deadly toll because it usually has no identifiable symptoms and often goes undetected until it is too late to treat.

Our most effective weapon in defeating colorectal cancer is early detection and treatment. Through a regular screening program that includes fecal blood testing, periodic partial or full colon examinations, or both, health professionals can detect and remove pre-cancerous polyps before they turn into cancer. Such cancer screening should become a routine part of preventive health care for anyone over the age of 50, because the risk of developing colorectal cancer increases with age. Individuals with a personal or family history of inflammatory bowel disease, colorectal cancer or polyps, or ovarian, endometrial, or breast cancer are also at a higher risk for developing colorectal cancer.

We can draw hope from the progress that is being made in colorectal cancer research. The National Cancer Institute of the National Institutes of Health recently launched a large research study to test two of the most promising drugs to treat colorectal cancer, and new technologies are giving us more powerful tools to increase the ease and accuracy of colorectal screening. By continuing to support such research, raising awareness of risk factors for the disease, promoting the widespread adoption of regular screening, and encouraging everyone to exercise regularly, we can save thousands of lives each year and dramatically reduce the risk of colorectal cancer.

NOW, THEREFORE, I, WILLIAM J. CLINTON, President of the United States of America, by virtue of the authority vested in me by the Constitution and laws of the United States, do hereby proclaim March 2000 as National Colorectal Cancer Awareness Month. I encourage health care providers, advocacy groups, policymakers, and concerned citizens across the country to help raise public awareness of the risks and methods of prevention of colorectal cancer and to use the power of our knowledge to defeat this silent disease.

IN WITNESS WHEREOF, I have hereunto set my hand this twenty-ninth day of February, in the year of our Lord two thousand, and of the Independence of the United States of America the two hundred and twenty-fourth.

wj

[FR Doc. 00-5207

Filed 3-1-00; 8:45 am]

Billing code 3195-01-P